DEPARTMENT OF COMMERCE

Foreign-Trade Zones Board

[Docket 23-2004]

Foreign-Trade Zone 176—Rockford, Illinois Area; Application for Expansion/Reorganization

An application has been submitted to the Foreign-Trade Zones Board (the Board) by the Greater Rockford Airport Authority, grantee of FTZ 176, requesting authority to expand FTZ 176, in the Rockford, Illinois area, adjacent to the Rockford Customs port of entry. The application was submitted pursuant to the provisions of the Foreign-Trade Zones Act, as amended (19 U.S. C. 81a-81u), and the regulations of the Board (15 CFR Part 400). It was formally filed on May 25, 2004.

FTZ 176 was approved on March 1, 1991 (Board Order 511, 56 FR 10409, 3/12/91). The zone project currently consists of the following sites in the Rockford, Illinois area: Site 1 (1,972 acres)—industrial park area of the Greater Rockford Airport on Route F.A. 179; Site 1a—(2 acres)—warehouse facilities at 1635 New Milford School Road (82,200 sq. ft.) and 1129 Eighteenth Avenue (12,871 sq. ft.), Rockford; Site 2 (6 acres)—warehouse at 500 South Independence Avenue, Rockford; Site 3 (14 acres)—warehouse facilities at 795 and 888 Landmark Drive, Landmark Industrial Park, Belvidere (expired 7/31/03); Site 4 (6 acres)—3575 Morreim Drive, Town Hall Industrial Park, Belvidere (expires 7/31/04).

The applicant is reorganizing the general-purpose zone by formally deleting Site 3, which expired in 2003 and Site 4, which will expire in 2004. The applicant is requesting authority to expand the general-purpose zone to include 3 additional industrial sites (923 acres) in Rochelle, Ogle County, Illinois, some 25 miles south of Rockford: Proposed Site 3 (566 acres, 2 parcels)—CenterPoint Industrial Park (366 acres), north of the intersection of Route 38 and Brush Grove Road, Rochelle, and, Interstate Transportation Center industrial park (200 acres), west side of state Highway 38; Proposed Site 4 (304 acres, 3 parcels)—LogistiCenter, southwest corner of I-39 and I-88, Rochelle; and, Proposed Site 5 (53 acres) South Rochelle industrial park (53 acres), south side of Rochelle on State Highway 251 and Veterans Parkway. The majority of sites are owned by Centerpoint, Black Earth, LLC and DP Partners or its affiliates. No specific manufacturing requests are being made at this time. Such request would be made to the Board on a case-by-case basis.

In accordance with the Board's regulations, a member of the FTZ Staff has been designated examiner to investigate the application and report to the Board.

Pubic comment on the application is invited from interested parties. Submissions (original and 3 copies) shall be addressed to the Board's Executive Secretary at one of the following addresses below:

1. Submissions via Express/Package Delivery Services: Foreign-Trade Zones Board, U.S. Department of Commerce, Franklin Court Building-Suite 4100W, 1099 14th Street, NW, Washington, DC 20005; or

2. Submissions via U.S. Postal Service: Foreign-Trade Zones Board, U.S. Department of Commerce, FCB-4100W, 1401 Constitution Ave., NW, Washington, DC 20230.

The closing period for their receipt is August 2, 2004. Rebuttal comments in response to material submitted during the foregoing period may be submitted during the subsequent 15-day period (to August 16, 2004).

A copy of the application will be available for public inspection at the Office of the Foreign-Trade Zone Board's Executive Secretary at address No. 1 listed above and the U.S. Export Assistance Center, 515 N. Court St., Rockford, IL 61103.

Dated: May 25, 2004.
Dennis Puccinelli,
Executive Secretary.

[FR Doc. 04-12291 Filed 5-28-04; 8:45 am]

BILLING CODE 3510-DS-P